FEDERAL COMMUNICATIONS COMMISSION

Public Information Collections Approved by Office of Management and Budget

September 12, 2006.

SUMMARY: The Federal Communications Commission (Commission) has received Office of Management and Budget (OMB) approval for the following public information collections pursuant to the Paperwork Reduction Act of 1995, Public Law 104-13. An agency may not conduct or sponsor and a person is not required to respond to a collection of information unless it displays a currently valid control number.

FOR FURTHER INFORMATION CONTACT: Paul J. Laurenzano, Federal Communications Commission, 445 12th Street, SW., Washington, DC 20554, (202) 418-1359 or via the Internet at plaurenz@fcc.gov.

SUPPLEMENTARY INFORMATION: OMB Control No.: 3060-0725.

OMB Approval date: 08/25/2006.

Expiration Date: 08/31/2009.

Title: Quarterly Filing of Nondiscrimination Reports (on Quality of Service, Installation and Maintenance) by Bell Operating Companies.

Form No.: N/A.

Estimated Annual Burden: 16 responses; 800 total annual burden hours.

Needs and Uses: Bell Operating Companies (BOCs) are required to provide nondiscrimination reports on an annual basis. Without provision of these reports, the Commission would be unable to ascertain whether the BOCs were discriminating in favor of their own payphones.

OMB Control No.: 3060-0817.

OMB Approval date: 09/07/2006.

Expiration Date: 09/30/2009.

Title: Computer III Further Remand Proceedings: BOC Provision of Enhanced Services (ONA Requirements), CC Docket No. 95-20.

Form No.: N/A.

Estimated Annual Burden: 8 responses; 216 total annual burden hours.

Needs and Uses: BOCs are required to post their CEI plans and amendments on their publicly accessible Internet sites. The requirement extends to CEI plans for new or modified tele-messaging or alarm monitoring services and for new or amended payphone services. If the BOC receives a good faith request for a plan from someone who does not have internet access, the BOC must notify that person where a paper copy of the plan is available for public inspection. The CEI plans will be used to ensure that BOCs comply with Commission policies and regulations safeguarding against potential anticompetive behavior by the BOCs in the provision of information services.

OMB Control No.: 3060-0824.

OMB Approval date: 09/01/2006.

Expiration Date: 09/30/2009.

Title: Service Provider Identification Number and Contact Form.

Form No.: FCC form 498.

Estimated Annual Burden: 5,000 responses; 7,500 total annual burden hours.

Needs and Uses: The Administrator of the universal service program must obtain contact and remittance information from service providers participating in the universal service high cost, low income, rural health care, and schools and libraries programs. The Administrator uses FCC Form 498 to collect service provider name, phone numbers, other contact information, and remittance information from universal service fund participants to enable the Administrator to perform its universal service disbursement functions under 47 CFR part 54. FCC Form 498 allows fund participants to direct remittance to third parties or receive payments directly from the Administrator.

OMB Control No.: 3060-0876.

OMB Approval date: 09/01/2006.

Expiration Date: 09/30/2009.

Title: USAC Board of Directors Nomination Process (47 CFR Section 54.703) and Review of Administrator's Decision (47 CFR Sections 54.719-54.725).

Form No.: N/A.

Estimated Annual Burden: 1,312 responses; 41,840 total annual burden hours.

Needs and Uses: Pursuant to 47 CFR 54.703 industry and non-industry groups may submit to the Commission for approval nominations for individuals to be appointed to the USAC Board of Directors. 47 CFR 54.719-54.725 contain the procedures for Commission review of USAC decisions, including the general filing requirements pursuant to which parties must file requests for review. The information is used by the Commission to select USAC's Board of directors and to ensure that requests for review are filed properly with the Commission.

OMB Control No.: 3060-0810.

OMB Approval date: 09/01/2006.

Expiration Date: 09/30/2009.

Title: Procedures for Designation of Eligible Telecommunications Carriers Pursuant to Section 214(e)(6) of the Communications Act of 1934, as amended.

Form No.: N/A.

Estimated Annual Burden: 100 responses; 6,200 total annual burden hours.

Needs and Uses: This submission extended a currently approved collection. Carriers seeking eligibility designations for service provided on tribal lands (which include “near reservations”) may petition the Commission directly under section 214(e)(6), without first seeking designation from the relevant state commission and all others must go to the state first for resolution of the jurisdictional issues before seeking designation from the Commission. In the Order, the Commission concluded that petitions for designation filed under section 214(e)(6) relating to “near reservation” areas will not be considered as petitions relating to tribal lands and as a result, petitioners seeking ETC designation in such areas must follow the procedures outlined in the Twelfth Report and Order for non-tribal lands prior to submitting a request for designation to this Commission.

Federal Communications Commission.
Marlene H. Dortch,
Secretary.

[FR Doc. E6-15534 Filed 9-19-06; 8:45 am]

BILLING CODE 6712-01-P